DEPARTMENT OF ENERGY

Electric Grid Resilience Self-Assessment Tool for Distribution System

AGENCY: Office of Electricity Delivery and Energy Reliability, U.S. Department of Energy.

ACTION: Request for Information; re-opening of comment period.

SUMMARY: On July 1, 2015, the Department of Energy (DOE) published in the Federal Register a Request for Information (RFI) regarding the electric grid resilience self-assessment tool for distribution system and requested public comment by August 17, 2015. DOE is re-opening the original public comment period of 45 days for this RFI.

DATES: The comment period for the RFI published July 1, 2015 (80 FR 37606) is re-opened. Written comments must be received on or before October 26, 2015.

ADDRESSES: Comments can be submitted by any of the following methods and must be identified by “EGRtool”. By email: EGRtool@hq.doe.gov. Include “EGRtool” in the subject line of the message. By mail: Dan Ton, Office of Electricity Delivery and Energy Reliability, U.S. Department of Energy, Forrestal Building, Room 6E-092, 1000 Independence Avenue SW., Washington, DC 20585. Note: Delivery of the U.S. Postal Service mail to DOE may be delayed by several weeks due to security screening. DOE, therefore, encourages those wishing to comment to submit comments electronically by email.

FOR FURTHER INFORMATION CONTACT: Mr. Dan Ton, Office of Electricity Delivery and Energy Reliability, U.S. Department of Energy, Forrestal Building, Room 6E-092, 1000 Independence Avenue SW., Washington, DC 20585 or by email at EGRtool@hq.doe.gov.

SUPPLEMENTARY INFORMATION: On July 1, 2015, the DOE published a request for information in the Federal Register (80 FR 37606). DOE is seeking comments and information from interested parties to inform the development of a pilot project concerning an interactive self-assessment tool to understand the relative resilience level of national electric grid distribution systems to extreme weather events. An interactive tool could be used by distribution utilities to identify opportunities for enhancing resilience with new technologies and/or procedures to support investment planning and related tariff filings. The focus of this RFI is on the design and implementation of the interactive self-assessment resilience tool.

The July 1 notice requested comments and information from interested parties to inform the development of a pilot project concerning an interactive self-assessment tool by August 17, 2015. DOE is re-opening the comment period by 60 days to allow additional time for more substantive comment on the significant questions to which DOE is seeking response. DOE believes that re-opening the comment period to allow additional time for interested parties to submit comments is appropriate. Therefore, DOE is re-opening the comment period to provide interested parties additional time to prepare and submit comments and will consider any comments received by that date.

Issued in Washington, DC, on August 24, 2015.
Patricia A. Hoffman,
Assistant Secretary, Office of Electricity Delivery and Energy Reliability.

[FR Doc. 2015-21244 Filed 8-26-15; 8:45 am]

BILLING CODE 6450-01-P